ENVIRONMENTAL PROTECTION AGENCY

[FRL-7233-9]

National Drinking Water Advisory Council: Request for Nominations to Contaminant Candidate List Working Group and Small Systems Affordability Working Group

AGENCY: Environmental Protection Agency.

ACTION: Notice; request for nominations to the Drinking Water Contaminant Candidate List Working Group and Small Systems Affordability Working Group of the National Drinking Water Advisory Council.

SUMMARY: The Environmental Protection Agency (EPA) is announcing the formation of a Drinking Water Contaminant Candidate List (CCL) Working Group and Small Systems Affordability Working Group of the National Drinking Water Advisory Council (NDWAC), and soliciting nominations to these working groups. The Advisory Council was established to provide practical and independent advice, consultation, and recommendations to the Agency on the activities, functions, and policies related to the implementation of the Safe Drinking Water Act as amended.

Any interested person or organization may nominate qualified individuals for membership on the working groups. Nominees should be identified by name, occupation, position, address and telephone number. To be considered, all nominations must include a current resume providing the nominee's background, experience and qualifications.

Drinking Water Contaminant Candidate List Working Group

The CCL serves as the primary source of priority contaminants for the Agency's drinking water program. The current version of the list is divided among priorities for drinking water research and those contaminants which are priorities for consideration for Agency determinations of whether or not to regulate specific contaminants. The list is comprised of both chemical and microbial contaminants that are known or anticipated to occur in public water systems, and may have adverse health effects, and which at the time of publication are not subject to any proposed or promulgated National Primary Drinking Water Standards. The first CCL contained 50 chemical and 10 microbial contaminants/groups and was developed based on the review of readily available information on potential drinking water contaminants and recommendations by technical experts.

EPA recognized the need for a more robust and transparent process for identifying and narrowing potential contaminants for future CCLs and now plans to develop a new risk based priority setting process based upon consideration of the recommendations made by the National Research Council (NRC) in its 2001 report, “Classifying Drinking Water Contaminants for Regulatory Consideration.” The process is expected to allow the drinking water program to identify those contaminants that pose the greatest risk to persons served by public water supplies. The process will be utilized for selecting contaminants for future CCLs.

The NRC recommended that the CCL be developed in a two step process. Under the NRC-recommended approach, the “universe” of potential drinking water contaminants is identified by considering many possible categories and sources of contaminants. The first step involves narrowing down the “universe” to a preliminary CCL (PCCL) using screening criteria and expert judgment. The second step involves the use of a decision process and expert judgment to select high priority contaminants for CCL from the PCCL. The NRC-recommended decision process for step 2 involves use of a prototype classification approach based on predictive features and attributes of contaminants. The NRC also recommends using virulence factor activity relationships (VFAR) to identify microbiological contaminants. VFAR is analogous to quantitative structure activity relationships used for chemical contaminants. It relies on new genetic and proteomic analytical approaches to identify indicators or predictive factors of potentially virulent pathogens for inclusion on a CCL.

Small Systems Affordability Working Group

EPA recognizes the special challenges faced by small water systems and is committed to using the suite of tools and mechanisms provided under the 1996 Safe Drinking Water Act (SDWA) amendments (including the small system affordability provisions of the Act) to help minimize the financial impact that new regulations will have on small drinking water systems. Small systems are being asked—in some cases for the first time—to grapple with a whole new set of public health challenges. In doing so, they face considerable financial challenges. In its FY 2002 Appropriations Report Language, Congress directed EPA to review the Agency's affordability criteria.

EPA currently uses an affordability threshold of 2.5% of median household income. EPA's national-level affordability criteria consist of two major components: an expenditure baseline and an affordability threshold. The expenditure baseline (derived from annual median household water bills) is subtracted from the affordability threshold (a share of median household income that EPA believes to be a reasonable upper limit for these water bills) to determine the expenditure margin (the maximum increase in household water bills that can be imposed by treatment and still be considered affordable). EPA compares the cost of treatment technologies against the available expenditure margin to determine if an affordable compliance technology can be identified. If EPA cannot identify an affordable compliance technology, then it attempts to identify a variance technology. Findings must be made at both the Federal and State level that compliance technologies are not affordable for small systems before a variance can be granted.

As part of the Agency's review of affordability, a number of areas will be explored. The Agency will evaluate alternatives to the median as the income level for the affordability threshold. The Agency will evaluate alternatives to using 2.5% as the income percentage for the affordability threshold. The Agency will evaluate methods to account for the cost of new rules. The Agency will investigate whether separate criteria should be developed for ground and surface water systems. The EPA will evaluate the impact of financial assistance programs on affordability. The Agency is also receptive to other approaches to reviewing the present affordability criteria.

Submitting Nominations

In view of the importance of these actions for the drinking water program, the Agency is seeking further public input on each of these important issues by establishing working groups of the National Drinking Water Advisory Council (NDWAC). Consistent with that commitment, EPA will work with the NDWAC to convene a panel of nationally recognized technical experts to study these issues further and is seeking nominations for these working groups through this notice.

The criteria for selecting working group members are that working group members are recognized experts in their fields; that working group members are as impartial and objective as possible; that working group members represent an array of backgrounds and perspectives (within their disciplines); that the working group members are available to participate fully in the review, which will be conducted over a relatively short time frame (i.e., within approximately 4-5 months); and that the results of the review be made publicly available for comment. Working group members will be asked to attend a series of meetings (approximately three) over the course of 4-5 months, participate in the discussion of key issues and assumptions at these meetings, and review and finalize the products and outputs of the working group. The working group will make a recommendation to the full NDWAC. The NDWAC will, in turn, make a recommendation to EPA.

Nominations for both working groups should be submitted to EPA no later than July 5, 2002. Nominations for the CCL-2 Working Group should be submitted to Dr. Jitendra Saxena, Designated Federal Officer, NDWAC Working Group, EPA, Office of Ground Water and Drinking Water (4607M), 1200 Pennsylvania Avenue, NW Washington, DC 20460. Nominations for Small Systems Affordability Working Group should be submitted to Mr. Amit Kapadia, Designated Federal Officer, NDWAC Working Group at the same address. Given the delays associated with mail due to extra security, it is recommended that a copy of the nominations be sent by e-mail to saxena.jitendra@epa.gov and kapadia.amit@epa.gov. The Agency will not formally acknowledge or respond to nominations.

FOR FURTHER INFORMATION CONTACT: Dr. Jitendra Saxena by e-mail or call (202) 564-5243, Mr. Amit Kapadia by e-mail or call (202) 564-4879.

Dated: June 13, 2002.
Cynthia C. Dougherty,
Director, Office of Ground Water and Drinking Water.

[FR Doc. 02-15461 Filed 6-18-02; 8:45 am]

BILLING CODE 6560-50-P